DEPARTMENT OF HEALTH AND HUMAN SERVICES

Centers for Disease Control and Prevention

Centers for Public Health Preparedness

Announcement Type: New, competitive cooperative agreement.

Funding Opportunity Number: 04209.

Catalog of Federal Domestic Assistance Number: 93.283.

Application Deadline: July 1, 2004.

I. Funding Opportunity Description

Authority: Sections 301(a) and 317(k)(2) of Public Health Service Act.

Purpose: The Centers for Disease Control and Prevention (CDC) announces the availability of fiscal year 2004 funds for a cooperative agreement program to support Centers for Public Health Preparedness (CPHP) responsible for improving the capacity of the public health workforce to prepare for and respond to terrorism and other emerging public health threats.

This program addresses the public health goals described in “A National Strategy for Terrorism Preparedness and Response: 2003-2008 Strategic Plan”, specifically Imperative five related to activities to ensure a competent and sustainable workforce. Critical objectives under this Imperative are to: (1) Increase the number and type of professionals that comprise a preparedness and response workforce; (2) deliver certification and competency-based training and education; (3) recruit and retain the highest quality workforce; and (4) evaluate the impact of training to assure learning has occurred.

Major goals of the CPHP Program are to: (1) Strengthen public health workforce readiness through implementation of programs for life-long learning; (2) strengthen capacity at State and local level for terrorism preparedness and emergency public health response; and (3) develop a network of academic-based programs contributing to national terrorism preparedness and emergency response capacity, by sharing expertise and resources across State and local jurisdictions.

Funded Centers are expected to work closely with State and local health agencies to plan, implement, and evaluate activities in response to the CDC Public Health Preparedness and Response for Bioterrorism (Announcement Number 99051).

Measurable outcomes of the program will be in alignment with the following CDC performance goal(s):

(1) Public Health Improvement: Increase the number of frontline public health workers at the State and local level that are competent and prepared to respond to bioterrorism, infectious disease outbreaks, and other public health threats and emergencies, and prepare frontline State and local health departments and laboratories to respond to current and emerging public health threats. Evaluate the impact on the performance/preparedness of the frontline public health workforce resulting from education and training programs implemented or supported by CDC, including the CPHP system.

(2) Terrorism Preparedness Workforce Development: Increase the number, type, and distribution of health professionals that comprise a preparedness and response workforce. Ensure that clinicians in the United States have access to training and information resources that prepare them to diagnose, treat and/or refer for treatment persons exposed to biological, radiological, chemical or mass trauma events related to terrorism.

Activities: Awardee activities for this program are as follows:

• Development, delivery, and evaluation of competency-based training and education programs based on identified needs of State and local public health agencies for building workforce preparedness and response capabilities. These programs should be done with maximal interaction and collaboration with State and local partners. Centers may collaborate within the residing jurisdiction of their institution or in any other jurisdictions, based on community needs and desire for collaboration. The programs may utilize strategies such as: (1) Preparing students through academic programs with a preparedness focus; (2) re-training current public health employees in terrorism preparedness and response; and (3) providing leadership training and skill-building in preparedness and emergency response. Plans for dissemination and delivery of education/training should be based as much as possible on already developed tools and resources, so as to minimize duplication and redundancy of materials and curricula. The evaluation components planned should be robust enough to document impact and outcome changes at the individual and institutional/agency levels. Each Center should also develop educational programs and supporting activities as requested by partners, which facilitate the achievement of preparedness goals established to support CDC Program Announcement number 99051. Eighty percent of proposed plans and budget should be dedicated to these education and training activities.

• Participation in overall Centers Network activities. Each Center will: (1) Contribute to a Network inventory of preparedness education products, courses, curricula, assessment and evaluation tools. Results of impact evaluations and effectiveness of project activities must also be shared with the Network; (2) facilitate the identification of expertise and resources that can be accessed through the Network to meet technical assistance (TA) and educational needs of other Centers, or local, State, Federal, and other public health partners; (3) confer as Network members to create and validate terrorism and emergency preparedness discipline-specific competencies, which can lead to national curricula standardized by discipline(s); and (4) participate in the development of evaluation criteria to measure the impact of learner skills/worker competencies that can be used across the Network. Twenty percent of proposed plans and budget should be dedicated to these Network activities.

Applicants that fully address the core activities may also submit project plans for non-core activities such as:

• Implementing scholarships and traineeships for preparedness.

• Leveraging additional resources for related projects and activities.

• Contributing unique subject matter expertise to the Network in: (1) Specific content area(s) (e.g., psychosocial/mental health preparedness, rural/border preparedness, etc.); (2) educational processes or innovative delivery methodology; or (3) unique access to particular target group(s).

• Proposing programs and educational activities in collaboration with tribal, national, and international partners, where the need is clearly justified and work plans are feasible based on expertise and previous experience.

• Convening with other identified experts in the Network to develop toolkits containing guidance and consistent information on critical preparedness education topics.

In a cooperative agreement, CDC staff are substantially involved in the program activities, above and beyond routine grant monitoring.

CDC Activities for this program are as follows:

• TA to support training and education programs focused on the public health workforce.

• TA for assessing State and local public health preparedness (in collaboration with CDC, OTPER, Division of State and Local Preparedness).

• TA in development of Network activities.

• Development and/or delivery of information and educational materials through collaboration with experts in the Network and in collaboration with subject matter experts throughout CDC.

II. Award Information

Approximately $26,000,000 is available for awards in fiscal year 2004 for 21-25 Centers. The awards are expected to range between $300,000 and $1,500,000. Institutions selected will receive funding on or before September 1, 2004. These funds are to be used during a budget time frame of 12 months within a project period of up to five years. Funding estimates may change based on the availability of funds. Continuing awards may be made in out years (i.e. 2005, 2006, 2007, and 2008) under this agreement. Funding after the first year is based on the amount of funds available to CDC, and awardee's progress in meeting goals and objectives.

Type of Award: Cooperative agreement. CDC involvement in this program is described in the Activities Section above.

Fiscal Year Funds: 2004.

Approximate Total Funding: $ $26,000,000.

Approximate Number of Awards: 21-25.

Approximate Average Award: $1,000,000. (This amount is for the first 12-month budget period, and includes both direct and indirect costs.)

Floor of Award Range: $300,000.

Ceiling of Award Range: $ 1,500,000.

Anticipated Award Date: September 1, 2004.

Budget Period Length: 12 months.

Project Period Length: Five years.

Throughout the project period, CDC's commitment to continuation of awards will be conditioned on the availability of funds, evidence of satisfactory progress by the recipient (as documented in required reports), and the determination that continued funding is in the best interest of the Federal government.

III. Eligibility Information

III.1. Eligible Applicants

Applications may be submitted by accredited Schools of Public Health with expertise and experience in building capacity and providing terrorism preparedness and emergency response education to students of public health and to state and local public health workers. Preference for funding will be given to Schools of Public Health with existing Centers for Public Health Preparedness.

III.2. Cost Sharing or Matching

Matching funds are not required for this program. In-kind funding or other financial support provided by your institution or state or other partners should be documented in the proposal and budget, as this demonstrates the level of support for your Center.

III.3. Other

CDC will accept and review applications with budgets greater than the ceiling of the award range.

Funded Centers are expected to work closely with state and local health agencies to implement work plans developed in response to CDC PA number 99051.

If your application is incomplete or non-responsive to the requirements listed in this section, it will not be entered into the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 20 pages. If your narrative exceeds the page limit, only the first pages which are within the page limit will be reviewed. Budget and budget justification narrative will not be counted in the page limit. (Please see guidance regarding including CVs and other supporting documentation in the instructions for appendices on page 11.)

• Font size: 12 point unreduced.

• Paper size: 8.5 by 11 inches.

• Page margin size: One inch.

• Printed only on one side of page.

• Held together only by rubber bands or metal clips; not bound in any other way.

Your narrative should broadly address activities to be conducted over the entire project period, but focus should be on activities proposed for Year one budget period. The narrative must include the following items in the order listed: Problem Background and Need Statement; Institutional Capacity; Operational Plan, including Goals, Objectives, Methods, Timeline, Activities, and Logic Model; Evaluation Plan and Performance Measures; and Budget with Narrative Justification.

Additional information may be included in the application appendices. The appendices will not be counted toward the narrative page limit. This additional information could include: Curricula vitae or resumes for proposed staff; letters of intent from partner organizations; and brief summaries of educational materials, evaluation tools, and existing impact evaluation reports.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: July 1, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carrier's guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order #12372 does not apply to this program.

IV.5. Funding restrictions

Restrictions, which must be taken into account while writing your budget, are as follows:

• Cooperative agreement funds may not be used for lobbying, and generally are not to be used for purchases of food or furniture.

• Indirect costs will be reimbursed at the eight percent rate used for training and education grants. If you are requesting indirect costs in your budget, you will be reimbursed at eight percent of total allowable direct cost, exclusive of tuition and related fees, and equipment, or at the actual indirect cost rate, whichever results in a lesser dollar amount. If using other than the eight percent rate, you must include a copy of your indirect cost rate agreement. If your indirect cost rate is a provisional rate, the agreement should be less than 12 months of age.

• Awards will not allow reimbursement of pre-award costs.

Guidance for completing your budget can be found on the CDC web site, at the following Internet address: http://www.cdc.gov/od/pgo/funding/budgetguide.htm.

IV.6. Other Submission Requirements

Application Submission Address: Submit the original and two hard copies of your application by mail or express delivery service to:

Technical Information Management-PA# 04209, CDC Procurement and Grants Office, 2920 Brandywine Road, Atlanta, GA 30341.

Applications may not be submitted electronically at this time.

V. Application Review Information

V.1. Criteria

You are required to provide measures of effectiveness that will demonstrate the accomplishment of the various identified objectives of the cooperative agreement.

Measures of effectiveness must relate to the performance goals stated in the “Purpose” section of this announcement. Measures must be objective and quantitative, and must measure the intended outcome. These measures of effectiveness must be submitted with the application and will be an element of evaluation. Your application will be evaluated against the following criteria:

1. Operational Plan: 40 percent

Does the applicant present clear goal(s) and measurable objectives including: Scope of proposed education and training; location(s) of target audience(s); and anticipated numbers of public health students, public health professionals, and public health leaders to be reached with education or training?

Applicant must include a program logic model, describing the sequence of steps and processes leading to short-, intermediate-, and long-term expected outcomes.

Applicant must describe a detailed operational plan outlining specific methods, including strategies for reaching target audiences, and for assuring non-duplication of existing materials. The plans must include description of activities that are in alignment with the requirement that 80 percent of activities must be focused on training and education and 20 percent on the development of Network processes, activities, and products.

Applicant must include a Year one timeline that is feasible given proposed Center and Network activities.

Does the plan clearly outline the responsibilities of each of the key personnel related to the Center and Network activities, and clear descriptions of major roles for local, state, and other public health partners in planning, implementation, and evaluation of Center activities?

2. Institutional Capacity: 25 percent

Does the applicant demonstrate that it has the staff, expertise, and facilities necessary to accomplish the program requirements, including curricula vitae of key staff?

Documentation of experience and impact in conducting education and training activities of a Center for Public Health Preparedness, including evidence of past participant improvement in knowledge, skills, and abilities.

Does the applicant demonstrate existing effective collaborations with community, local, state, and other public health partners with whom and to whom their program activities will be provided, including letters of intent from participating agencies and organizations?

Description of the specific and unique areas of expertise the applicant brings to the National Network.

3. Evaluation Plan: 25 percent

Does the applicant present a clear plan for monitoring progress toward the stated goals and objectives, including specific evaluation questions to be addressed, and plans to provide semi-annual and annual evaluation data? In addition to process measures, program impacts and outcome measures must be considered and effective data collection methods described.

Experience in conducting and reporting evaluation activities of a Center for Public Health Preparedness, i.e. conducting successful process, outcome, and impact evaluation as a Center and reporting and participating in overall evaluation activities as a member of the Network.

Demonstration of consideration of cost-effectiveness and return-on-investment principles for maximizing the economic value of activities, e.g., describing the cost of activity including dissemination versus the number of persons predicted to benefit.

4. Problem Background/Need: 10 percent

Does the applicant demonstrate a strong understanding of the need for improving terrorism preparedness and emergency response capability in the public health workforce?

Does the applicant illustrate a clear need, based on existing state or local data, for the activities proposed in this cooperative agreement program?

5. Budget: not weighted

Does the applicant present a detailed budget with a line-item narrative justification and any other information to demonstrate that the request for assistance is consistent with the purpose of this cooperative agreement program?

Does the budget reflect alignment with requirement that it is 80 percent Center and 20 percent Network focused?

V.2. Review and Selection Process

Applications will be reviewed for completeness by the Procurement and Grants Office (PGO) staff, and for responsiveness by Public Health Practice Program Office (PHPPO) staff, with input from the Office of Terrorism Preparedness and Emergency Response (OTPER). Incomplete applications and applications that are non-responsive to the eligibility criteria will not advance through the review process. Applicants will be notified that their application did not meet submission requirements.

An objective review panel will evaluate complete and responsive applications according to the criteria listed in the “V.1. Criteria” section above.

V.3. Anticipated Award Date

Awards will be made by September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

CDC programs are administered under 45 CFR part 74 and part 92.

For more information on the Code of Federal Regulations, see the National Archives and Records Administration at the following Internet address: http://www.access.gpo.gov/nara/cfr/cfr-table-search.html.

The following additional requirements apply to this project:

• AR-10 Smoke-Free Workplace Requirements.

• AR-11 Healthy People 2010.

• AR-12 Lobbying Restrictions.

• AR-20 Conference Support.

• AR-25 Release and Sharing of Data.

Additional information on these requirements can be found on the CDC Web site at the following Internet address: http://www.cdc.gov/od/pgo/funding/ARs.htm.

VI.3. Reporting Requirements

You must provide CDC with an original, plus two hard copies of the following reports:

1. Semi-annual progress reports, no more than 30 days after the end of each semi-annual budget period.

2. Interim annual progress reports, no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

3. Annual Financial status report, no more than 90 days after the end of the budget period.

4. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341. Telephone: 770-488-2700.

For program technical assistance, contact: Dr. Joan Cioffi, Project Officer, CDC Public Health Practice Program Office, 4770 Buford Highway, NE., K-38, Atlanta, GA 30341. Telephone: 770-488-8118; e-mail: jcioffi@cdc.gov.

For financial, grants management, or budget assistance, contact: Sharon Robertson, Grants Management Specialist, CDC Procurement and Grants Office, 2920 Brandywine Road, Atlanta, GA 30341. Telephone: 770-488-2748; e-mail: sqr2@cdc.go.

References

1. Guidance for fiscal year 2003 Continuation Funds for Public Health Preparedness and Response for Bioterrorism (Announcement Number 99051). http://www.bt.cdc.gov/Planning/CoopAgreementAward/.

2. A National Strategy for Terrorism Preparedness and Response: 2003-2008 (draft, May 2003). http://www.bt.cdc.gov.

3. Framework for Program Evaluation in Public Health, MMWR, September 17, 1999, vol. 48, No. RR-11, http://www.cdc.gov/mmwr/preview/mmwrhtml/rr4811a1.htm, report includes guidance in program evaluation, and includes logic models for describing program strategy and goals.

4. Public Health Workforce Development. http://www.phppo.cdc.gov/workforce. Web page includes reference documents from CDC and partners.

Dated: May 21, 2004.
William P. Nichols,
Acting Director, Procurement and Grants Office, Centers for Disease Control.

[FR Doc. 04-12233 Filed 5-28-04; 8:45 am]

BILLING CODE 4163-18-P